ENVIRONMENTAL PROTECTION AGENCY

40 CFR Parts 61 and 63

[EPA-R01-OAR-2017-0641; FRL-9975-51-Region 1]

Approval of the Clean Air Act, Section 112(l), Authority for Hazardous Air Pollutants: Asbestos Management and Control; State of New Hampshire Department of Environmental Services

AGENCY: Environmental Protection Agency (EPA).

ACTION: Proposed rule.

SUMMARY: The Environmental Protection Agency (EPA) is proposing to grant the New Hampshire Department of Environmental Services (NH DES) the authority to implement and enforce the amended Asbestos Management and Control Rule in place of the National Emission Standard for Asbestos (Asbestos NESHAP) as it applies to certain asbestos-related activities. Upon approval, NH DES's amended rule would apply to all sources that otherwise would be regulated by the Asbestos NESHAP with the exception of inactive waste disposal sites that ceased operation on or before July 9, 1981. These inactive disposal sites are already regulated by State rules that were approved by EPA on January 11, 2013. This proposed approval would make NH DES's amended Asbestos Management and Control Rule federally enforceable.

DATES: Written comments must be received by April 25, 2018.

ADDRESSES: Submit your comments, identified by Docket ID No. EPA-R01-OAR-2017-0641 at https://www.regulations.gov, or via email to lancey.susan@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the “For Further Information Contact” section. For the full EPA public comment policy, information about CBI or multimedia submissions, and general guidance on making effective comments, please visit https://www.epa.gov/dockets/commenting-epa-dockets. EPA will forward copies of all submitted comments to the New Hampshire Department of Environmental Services.

FOR FURTHER INFORMATION CONTACT: Susan Lancey, Air Permits, Toxics, and Indoor Programs Unit, U.S. Environmental Protection Agency, EPA New England Regional Office, 5 Post Office Square—Suite 100, (Mail code OEP05-2), Boston, MA 02109-3912, telephone number 617-918-1656, lancey.susan@epa.gov.

SUPPLEMENTARY INFORMATION: Throughout this document whenever “we,” “us,” or “our” is used, we mean the EPA.

Table of Contents

I. General Information

A. Does this proposed rule apply to me?

B. What should I consider as I prepare my comments for the EPA?

II. Background

III. What requirements must a state rule meet to substitute for a section 112 rule?

IV. What are the differences between NH's rule and the Asbestos NESHAP and what changes did NH make to its Asbestos Management and Control Rule?

V. What is EPA's evaluation regarding NH's amended Asbestos Management and Control Rule?

VI. Proposed Action

VII. Incorporation by Reference

VIII. Statutory and Executive Order Reviews

I. General Information

A. Does this proposed rule apply to me?

Categories and entities potentially regulated by this proposed rule include:

Category | NAICS ¹ | Examples of regulated entities
Industrial Industrial Industrial Industrial Industrial Industrial Industrial Industrial Industrial Industrial Industrial Industrial | 23 23594 562112 562211 5629 56191 332992 33634 327 3279 32791 32799 | Construction. Wrecking and Demolition Contractors. Hazardous Waste Collection. Hazardous Waste Treatment and Disposal. Remediation and Other Waste Management Services. Packaging and Labeling Services. Small Arms Ammunition Manufacturing. Motor Vehicle Systems Manufacturing. Nonmetallic Mineral Product Manufacturing. Other Nonmetallic Mineral Product Manufacturing. Abrasive Product Manufacturing. All Other Nonmetallic Mineral Product Manufacturing.
¹ North American Industry Classification System.

This Table is not intended to be exhaustive, but rather provides a guide for readers regarding entities potentially regulated by this proposed rule. To determine whether your facility is affected you should examine the applicability criteria in the amended New Hampshire Asbestos Management and Control Rule. If you have questions regarding the applicability of any aspect of this action to a particular entity, please contact the person identified in the “For Further Information Contact” section.

B. What should I consider as I prepare my comments for the EPA?

Do not submit information containing CBI to the EPA through https://www.regulations.gov or email. Clearly mark the part or all of the information that you claim to be CBI. For CBI information on a disk or CD-ROM that you mail to the EPA, mark the outside of the disk or CD-ROM as CBI and then identify electronically within the disk or CD-ROM the specific information that is claimed as CBI. In addition to one complete version of the comments that includes information claimed as CBI, a copy of the comments that does not contain the information claimed as CBI must be submitted for inclusion in the public docket. Information so marked will not be disclosed except in accordance with procedures set forth in 40 CFR part 2. Send or deliver information identified as CBI only to the following address: “EPA-R01-OAR-2017-0641,” Susan Lancey, U.S. Environmental Protection Agency, EPA New England Regional Office, 5 Post Office Square (mail code OEP05-2), Boston, MA 02109-3912.

II. Background

Under CAA section 112(l), the EPA may approve state or local rules or programs to be implemented and enforced in place of certain otherwise applicable Federal rules, emissions standards, or requirements. The Federal regulations governing EPA's approval of state and local rules or programs under section 112(l) are located at 40 CFR part 63, subpart E. See 58 FR 62262 (November 26, 1993), as amended by 65 FR 55810 (September 14, 2000). Under these regulations, a state air pollution control agency has the option to request EPA's approval to substitute a state rule for the applicable Federal rule (e.g., the National Emission Standards for Hazardous Air Pollutants). Upon approval by the EPA, the state agency is authorized to implement and enforce its rule in place of the Federal rule, and the state rule becomes federally enforceable in that state.

The EPA first promulgated standards to regulate asbestos emissions on April 6, 1973. See 38 FR 8826. These standards have since been amended several times and re-codified in 40 CFR part 61, subpart M, “National Emission Standard for Asbestos” (Asbestos NESHAP). On January 11, 2013, the EPA approved the New Hampshire regulation Env-A 1800 titled “Asbestos Management and Control” (Asbestos Management and Control Rule) as a rule adjustment for the Asbestos NESHAP, applicable to all sources in New Hampshire except for inactive waste disposal sites not operated after July 9, 1981. See 78 FR 2333.¹ These inactive disposal sites are regulated by other State rules that were also approved by the EPA on January 11, 2013. See id.²

¹ The EPA originally approved NH's Asbestos Management and Control Rule on November 28, 2006, see 71 FR 68746, and approved an updated version of the rule on January 11, 2013.

² The EPA originally approved NH's Inactive Waste Disposal Site Rule on May 28, 2003, see 68 FR 31611, and approved an updated version of the rule on January 11, 2013.

Under 40 CFR 63.91(e), within 90 days of any state amendment, repeal, or revision of any state rule approved as an alternative to a Federal requirement, the state must provide the EPA with a copy of the revised authorities and satisfy either 63.91(e)(1) or (e)(2). Under 63.91(e)(2), the State shall request approval of the revised rule. In a letter dated July 21, 2017, supplemented on August 21, 2017, September 21, 2017, and March 1, 2018, NH DES requested approval of its amended rules pertaining to asbestos management in New Hampshire. Specifically, NH requested approval of Env-A 1800 titled “Asbestos Management and Control,” effective as of May 5, 2017, Sections 1801-1807, Appendices B, C and D.³ The EPA has determined it is appropriate to consider the request to approve the amended Asbestos Management and Control Rule under the rule substitution criteria in 40 CFR 63.93.

³ NH is not requesting approval of the following provisions 1801.02(e), 1801.07, 1802.02, 1802.04, 1802.07-1802.09, 1802.13, 1802.15-1802.17, 1802.25, 1802.31, 1802.37, 1802.40, 1802.44, and 1803.05-1803.09. In addition, NH DES did not request approval of Env-A 1808 (relating to asbestos analytical requirements), Env-A 1808-1814 (relating to personnel licensing and training), and Appendix A: State Statutes and Federal Regulations Implemented.

III. What requirements must a state rule meet to substitute for a section 112 rule?

A state must demonstrate that it has satisfied the up-front approval criteria contained in 40 CFR 63.91(d). The process of providing up-front approval assures that a state has met the delegation criteria in section 112(l)(5) of the CAA as implemented by EPA's regulations at 40 CFR 63.91(d). These criteria require, among other things, that the state has demonstrated that its NESHAP program contains adequate authorities to assure compliance with each applicable Federal requirement, adequate resources for implementation, and an expeditious compliance schedule. Under 40 CFR 63.91(d)(3), interim or final Title V program approval under 40 CFR part 70 satisfies the criteria set forth in 40 CFR 63.91(d) for up-front approval. On October 2, 1996, EPA promulgated interim approval of NH DES's operating permits program, and also approved New Hampshire's authority to implement and enforce unchanged section 112 standards for part 70 sources under 40 CFR 63.91. See 61 FR 51371. Subsequently, on September 24, 2001, EPA promulgated full approval of NH DES's operating permits program. See 66 FR 48806. Accordingly, NH DES has satisfied the up-front approval criteria of 40 CFR 63.91(d).

Additionally, the regulations governing approval of state requirements that substitute for a section 112 rule require EPA to evaluate the state's submittal to ensure that it meets the stringency and other requirements of 40 CFR 63.93. A rule will be approved if the state requirements contain or demonstrate: (1) Applicability criteria that are no less stringent than the corresponding Federal rule; (2) levels of control and compliance and enforcement measures that result in emission reductions from each affected source that are no less stringent than would result from the otherwise applicable Federal rule; (3) a compliance schedule that requires each affected source to be in compliance within a time frame consistent with the deadlines established in the otherwise applicable Federal rule; and (4) the additional compliance and enforcement measures as specified in 40 CFR 63.93(b)(4). See 40 CFR 63.93(b).

A state may also seek, and EPA may approve, a partial delegation of the EPA's authorities. See CAA 112(l)(1). To obtain a partial rule substitution, the state's submittal must meet the otherwise applicable requirements in 40 CFR 63.91 and 63.93, and be separable from the portions of the program that the state is not seeking rule substitution for. See 40 CFR 63.91(f)(3); 64 FR 1889, January 12, 1999.

Before we can approve alternative requirements in place of a part 61 emissions standard, the state must submit to us detailed information that demonstrates how the alternative requirements compare with the otherwise applicable Federal standard. A detailed discussion of how EPA will determine equivalency for state alternative NESHAP requirements is provided in the preamble to EPA's proposed subpart E amendments on January 12, 1999. See 64 FR 1908.

IV. What are the differences between NH's rule and the asbestos NESHAP and what changes did NH make to its Asbestos Management and Control Rule?

NH DES's amended Asbestos Management and Control Rule, effective as of May 5, 2017, continues to incorporate by reference most, but not all, of the federal national emission standards for hazardous air pollutants (40 CFR part 61, subpart M) for asbestos (Asbestos NESHAP). The following discussion compares those sections of 40 CFR part 61, subpart M that NH DES has not adopted with the applicable sections of New Hampshire's rule, demonstrating that New Hampshire's rule is in each case no less stringent than the federal rule, and then describes the material changes to NH's amended Asbestos Management and Control Rule, effective as of May 5, 2017.

The first three exceptions to NH's incorporation by reference of the Asbestos NESHAP under Env-A 1801.06(a), namely 40 CFR 61.145(c)(1)(i), 61.145(c)(1)(ii), and 61.145(c)(1)(iv), are demolition work practices that may be considered together. Section 61.145 contains the standard for asbestos demolition and renovation, subsection (c) contains the procedures for asbestos emission control, and paragraph (1) provides for the removal of all regulated asbestos-containing material (RACM), except RACM need not be removed before demolition if the criteria in paragraph (1) is met.

In Env-A 1805.10, unlike the federal rule, NH DES requires that all ACM without exception must be removed prior to demolition. Because New Hampshire's rule regulates a greater range of asbestos activity than the federal NESHAP, it contains applicability criteria no less stringent than those in the federal rule. See 40 CFR 63.93(b)(1).

The next exception to the federal rule in New Hampshire's rule is 40 CFR 61.149(c)(2). This section, together with §§ 61.150(a)(4), 61.151(c), 61.152(b)(3), 61.154(d) and 61.155(a), is non-delegable to the states under 40 CFR 61.157.

NH DES did not adopt 40 CFR 61.150(a)(5), which provides an exception to the standard for waste disposal for manufacturing, fabricating, demolition, renovation, and spraying operations. Section 61.150(a) provides that each owner or operator shall discharge no visible emissions during the collection, processing, packaging, or transporting of asbestos-containing waste material. Subparagraph (5) provides an exclusion for Category I and II nonfriable ACM. NH DES regulates both Category I and Category II nonfriable ACM in demolitions, and therefore did not adopt the provisions of 40 CFR 61.150(a). See Env-A 1805.10(a) and 1805.08. Similarly, NH DES did not adopt 40 CFR 61.150(b)(3). Paragraph 61.150(b) provides that all asbestos-containing waste material shall be deposited as soon as is practical by the waste generator at an approved site. Subparagraph 61.150(b)(3) excludes Category I nonfriable ACM that is not RACM. Again, NH DES has chosen to regulate this material. Because the amended Asbestos Management and Control Rule regulates a greater range of asbestos activity than the federal NESHAP, it contains applicability criteria that are no less stringent than the federal rule. See 40 CFR 63.93(b)(1).

NH DES did not adopt 40 CFR 61.151 with respect to disposal sites not operated after July 9, 1981. This is a special case covered by New Hampshire's waste management regulation Env-Sw 2100, which EPA has already approved in a separate action. See 78 FR 2333.

Finally, NH DES did not adopt 40 CFR 61.154(c). This section includes the standard for active waste disposal sites. Paragraph (c) provides an alternative to the “no visible emissions” standard of 40 CFR 61.154(a), but New Hampshire's rule is no less stringent than the federal rule in that it does not allow this alternative approach. See 40 CFR 63.93(b)(2).

In amending Env-A 1800, NH DES made some changes to Env-A 1800, editorial in nature, intended to clarify the Asbestos Management and Control Rule. NH DES also made other, material changes, which we discuss below.

In NH's amended Asbestos Management and Control Rule, NH added section Env-A 1801.05 which reads as follows: “Federal Definitions Incorporated. Terms used in this chapter that are defined in 40 CFR 61.141 shall be as reprinted in Appendix D, except for the following: (a) Asbestos; (b) Facility; (c) Regulated Asbestos-Containing Material (RACM); and (d) Remove.” These terms are defined in the amended Asbestos Management and Control Rule in either Env-A 1802 or Appendix C and include minor differences from the Asbestos NESHAP. As discussed in greater detail below, the EPA has determined that for each of the four terms NH did not incorporate, NH's regulation includes terms and requirements that are either equivalent to the terms in the Asbestos NESHAP or result in applicability criteria that are no less stringent than those in the NESHAP. See 40 CFR 63.93(b)(1).

Under 40 CFR 61.141, “Asbestos” is defined to mean “the asbestiform varieties of serpentinite (chrysotile), riebeckite (crocidolite), cummingtonite-grunerite, anthophyllite, and actinolite-tremolite”. In Appendix C of the State rule, NH defines “Asbestos” to mean “amosite, chrysotile, crocidolite, or asbestiform tremolite, actinolite, or anthophylite.” The mineral series cummingtonite-grunerite is also referred to as amosite. Therefore, EPA has determined NH's definition of asbestos is equivalent to the federal definition.

NH's definition of “Facility,” unlike the federal definition, does not explicitly exclude residential buildings having four or fewer dwelling units. See Env-A 1802.27. In addition, NH explicitly includes utility infrastructure in the definition of “Facility,” and includes a definition for “utility infrastructure” whereas the federal rule regulates utility infrastructures but the federal definition does not include an explicit reference to utility infrastructures. The federal definition of Facility, as found in the Asbestos NESHAP at 40 CFR 61.141, specifies that for purposes of this definition, any building, structure, or installation that contains a loft used as a dwelling is not considered a residential structure, installation, or building. NH did not incorporate this language because NH's rule applies to all residential buildings including residential buildings with fewer than four dwellings. The federal definition also specifies any structure, installation or building that was previously subject to this subpart is not excluded, regardless of its current use or function. NH includes this requirement in section Env-A 1801.02(d), rather than in the definition of Facility. Thus, EPA finds that these aspects of the NH rule result in applicability criteria no less stringent than the applicable NESHAP requirements. See 40 CFR 61.93(b)(1).

Under the Asbestos NESHAP, “Regulated asbestos-containing material (RACM)” is defined in 40 CFR 61.141 to mean “(a) Friable asbestos material, (b) Category I nonfriable ACM that has become friable, (c) Category I nonfriable ACM that will be or has been subjected to sanding, grinding, cutting, or abrading, or (d) Category II nonfriable ACM that has a high probability of becoming or has become crumbled, pulverized, or reduced to powder by the forces expected to act on the material in the course of demolition or renovation operations regulated by this subpart.” NH's definition of RACM is nearly identical to the federal definition, except that NH uses the term “sawing” instead of “cutting” and NH's definition uses the phrase “will likely become” rather than “has a high probability of becoming.” NH's rule incorporates the federal Asbestos NESHAP definition of cutting at 40 CFR 61.141 which means “to penetrate with a sharp-edged instrument and includes sawing, but does not include shearing, slicing, or punching.” In addition, NH's rule requires all ACM be removed prior to demolition, requires all ACM during renovation to be adequately wetted before removal and maintained wet during removal, and requires transport and disposal as specified in 40 CFR 61.150 of all ACM, whether RACM or not. See Env-A 1805.10(a), 1805.07, and 1805.08(c). Because sawing is referenced in the incorporated Asbestos NESHAP definition of cutting, and because NH's rule regulates all ACM, rather than RACM, during renovation, demolition and disposal, EPA finds this aspect of the NH rule to be no less stringent than the Asbestos NESHAP.

“Remove” is defined in 40 CFR 61.141 to mean “to take out RACM or facility components that contain or are covered with RACM from any facility.” NH's rule includes a definition for “Removal,” rather than “Remove.” Under the NH rule, “Removal” means “the stripping of any RACM from surfaces or components within or at a facility.” See Env-A 1802.42. The Asbestos NESHAP and the amended NH Asbestos Management and Control Regulation both use the term “Removal” as well as “Remove” in the regulatory text. NH's definition of “Removal” is similar to the Asbestos NESHAP definition of “Remove”. In addition to incorporating the federal requirements for removing RACM during renovation and demolition, NH's rule includes work practice standards for asbestos removal procedures which require all ACM to be adequately wetted before and during removal, and placed in leak-tight containers for disposal. See Env-A 1805.07. NH's rule also includes ACM disposal procedures which require the owner or operator to remove all packaged ACM, whether RACM or not, from the worksite. See Env-A 1805.08. EPA finds that because NH's regulatory text requires all ACM, i.e., not just RACM, to be placed into leak-tight containers and removed from the worksite, this aspect of NH's rule is no less stringent than the Asbestos NESHAP. Therefore, the EPA has determined that for each of the four terms NH did not incorporate, NH's regulation includes terms and requirements that are either equivalent to the terms in the Asbestos NESHAP, or result in applicability criteria that are no less stringent than those in the NESHAP. See 40 CFR 63.93(b)(1).

In the amended Asbestos Management and Control Rule, NH added section Env-A 1806 Alternative Requirements for Specific ACM which provides certain alternatives for asbestos abatement activities on vinyl asbestos floor tile, asbestos floor sheeting, asbestos roofing materials, asbestos siding and other preformed cementitious asbestos materials. Sections Env-A 1806.02, 1806.03(a), and 1806.04 provide alternatives to ACM that is not sanded, sawed, cut, drilled or otherwise treated to create a fine dust or particles. These alternatives do not apply to RACM so the NESHAP does not regulate these activities. Thus, the NH rule regulates a greater range of asbestos activity than the federal NESHAP, and contains applicability criteria and levels of control that are no less stringent than those in the federal rule. See 40 CFR 63.93(b)(1) and 63.93(b)(2). Env-A 1806.03(b) does include alternatives for asbestos containing roofing materials that are cut and therefore become RACM which is regulated by the NESHAP. Under the NESHAP, appendix A section III(A) 3.A.3, the EPA considers a roof removal project to be in compliance with the “adequately wet” and “discharge no visible emission” requirements of the NESHAP if the roof cutter is equipped with a blade guard that completely encloses the blade and water application is used at the roof surface during the cutting of the roof. Env-A 1806.03(b) permits (in lieu of otherwise applicable requirements at Env-A 1805.04, 1805.05, and 1805.09) a HEPA-filtered tool be used to prevent generation of visible emissions, together with water application at the point of abrasion with an airless sprayer and in sufficient volume so that no visible emissions result from the operation other than water spray. NH's work practice requires “no visible emissions” and does not exclude the requirements for ACM to be “adequately wet,” as the NESHAP work practice allows. See Env-A 1805.07 and Env-A 1806.04(b). The EPA has determined the requirements in Env-A 1806.03(b) are equivalent to the NESHAP and would result in emissions reductions from each affected source that are no less stringent than would result from the NESHAP. See 40 CFR 63.93(b)(2).

In addition to the changes described above, in the amended Asbestos Management and Control Rule, NH made the following changes. As an editorial change, NH moved its statutory definitions to Appendix C and moved the federal definitions incorporated to Appendix D. In addition, under Env-A 1805.08 Asbestos Disposal Procedures, NH added a requirement for packaged ACM to be removed from the worksite as soon as practicable, but in no event longer than 30 days following completion of the abatement work. The Asbestos NESHAP requires all asbestos containing waste material to be deposited as soon as practicable but does not specify a timeframe not to be exceeded. See 40 CFR 61.150(b). The EPA finds NH's requirement to be no less stringent than the compliance time frame established in the NESHAP. See 40 CFR 63.93(b)(3). The EPA has determined that these aspects of the State rule are no less stringent than the Asbestos NESHAP requirements.

In addition to incorporating the federal rule compliance monitoring requirements by reference, NH's rule specifies that the chapter applies to provisions for inspection, compliance monitoring, and enforcement by the department. See Env-A 1801.02(f) and 40 CFR 63.93(b)(4). In other aspects, the State rule imposes additional State requirements in addition to the federal requirements. A detailed comparison of the NH additional rule requirements and the federal requirements is available in NH's equivalency demonstration table available in the public docket. Because these State requirements simply add onto the federal requirements, they inherently are no less stringent than their federal counterparts. See 40 CFR 63.93(b)(2).

V. What is EPA's evaluation regarding NH's amended Asbestos Management and Control Rule?

After reviewing the request for approval of NH DES's amended Asbestos Management and Control rule, the EPA has determined that this request meets all of the requirements necessary to qualify for a rule substitution approval under CAA section 112(l) and 40 CFR 63.91 and 63.93. Specifically, the EPA has preliminarily determined that NH DES's amended Asbestos Management and Control Rule is equivalent to or not less stringent than the Asbestos NESHAP as required by each of the criteria set forth in 40 CFR 63.93(b)(1)-(3), and satisfies the compliance and enforcement requirements in 40 CFR 63.93(b)(4), as the State rule applies to all sources in New Hampshire, except for inactive waste disposal sites not operated after July 9, 1981. Therefore, the EPA hereby proposes to approve NH DES's amended Asbestos Management and Control Rule, effective as of May 5, 2017, in lieu of the Asbestos NESHAP, for all sources in New Hampshire except for inactive waste disposal sites not operated after July 9, 1981.

VI. Proposed Action

The EPA is proposing to approve NH DES's amended rules in Env-A 1800, “Asbestos Management and Control,” effective as of May 5, 2017, Sections 1801-1807, Appendices B, C, and D (excluding the following provisions: 1801.02(e), 801.07, 1802.02, 1802.04, 1802.07-1802.09, 1802.13, 1802.15-1802.17, 1802.25, 1802.31, 1802.37, 1802.40, 1802.44, and 1803.05-1803.09) as a rule substitution for the Asbestos NESHAP, for all sources in New Hampshire except for inactive waste disposal sites not operating after July 9, 1981.

VII. Incorporation by Reference

In this rulemaking, the EPA is proposing to include in a final EPA rule regulatory text that includes incorporation by reference. In accordance with requirements of 1 CFR 51.5, the EPA is proposing to incorporate by reference New Hampshire's Env-A 1800, “Asbestos Management and Control,” effective as of May 5, 2017, Sections 1801-1807, Appendices B, C, and D; excluding the following provisions: 1801.02(e), 1801.07, 1802.02, 1802.04, 1802.07-1802.09, 1802.13, 1802.15-1802.17, 1802.25, 1802.31, 1802.37, 1802.40, 1802.44, and 1803.05-1803.09. The EPA is also proposing to incorporate by reference a letter from Clark B. Freise, Assistant Commissioner, Department of Environmental Services, State of New Hampshire, to David J. Alukonis, Interim Director, Office of Legislative Services, dated June 23, 2017, certifying that the copy of the rule enclosed with the letter, Env-A 1800, is the official version of this rule. The EPA has made, and will continue to make, these documents generally available electronically through https://www.regulations.gov and/or in hard copy at the appropriate EPA office.

VIII. Statutory and Executive Order Reviews

Under the CAA, the Administrator has the authority to approve section 112(l) submissions that comply with the provisions of the Act and applicable Federal regulations. In reviewing section 112(l) submissions, EPA's role is to approve state choices, provided that they meet the criteria and objectives of the CAA and of EPA's implementing regulations. Accordingly, this action merely proposes to approve the State's request as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

In addition, this rulemaking is not subject to requirements of section 12(d) of the National Technology Transfer and Advancement Act of 1995 (15 U.S.C. 272 note) because application of those requirements would be inconsistent with the CAA. It also does not provide EPA with the discretionary authority to address, as appropriate, disproportionate human health or environmental effects, using practicable and legally permissible methods, under Executive Order 12898 (59 FR 7629, February 16, 1994). And it does not have Tribal implications as specified by Executive Order 13175 (65 FR 67249, November 9, 2000), because the EPA is not proposing to approve the submitted rule to apply in Indian country located in the State, and because the submitted rule will not impose substantial direct costs on Tribal governments or preempt Tribal law.

List of Subjects in 40 CFR Parts 61 and 63

Environmental protection, Administrative practice and procedure, Air pollution control, Hazardous substances, Incorporation by reference, Intergovernmental relations, Reporting and record keeping requirements.

Dated: March 15, 2018.
Alexandra Dapolito Dunn,
Regional Administrator, EPA Region 1.

[FR Doc. 2018-06005 Filed 3-23-18; 8:45 am]

BILLING CODE 6560-50-P